DEPARTMENT OF TRANSPORTATION

Federal Aviation Administration

Notice of Availability of the Draft Supplemental Environmental Assessment for the Proposed Modification to the Four Corner-Post Plan at Las Vegas McCarran International Airport

AGENCY: Federal Aviation Administration (FAA), DOT.

ACTION: Notice of availability, notice of comment period, notice of public workshops.

SUMMARY: The Federal Aviation Administration (FAA) is issuing this Notice of Availability to advise the public that a Draft Supplemental Environmental Assessment (DSEA) will be available for public review beginning November 22, 2005. The DSEA details the proposed modification to the Four Corner-Post Plan at Las Vegas McCarran International Airport and addresses the potential environmental impacts associated with its implementation. The DSEA presents the Purpose and Need for the proposed project, a comprehensive analysis of the alternatives to the proposed project, and studies the potential environmental impacts associated with the proposed modification to the Four Corner-Post Plan.

The Federal Aviation Administration (FAA) proposes to modify an existing departure procedure that was implemented as part of the Four Corner-Post Plan at McCarran International Airport (LAS), Las Vegas, Nevada, in October 2001. The Four Corner-Post Plan was developed and implemented to address growing airspace and air traffic control inefficiencies caused by increases in air traffic in the Las Vegas TRACON airspace. This Draft Supplemental Environmental Assessment (SEA) has been developed to assess the potential environmental impacts that may be associated with the proposed modification of the STAAV Area Navigation (RNAV) Standard Instrument Departure (SID) to accommodate eastbound departures from Runway 25.

Public Comment Period and Public Workshops: The public comment period on the DSEA will start November 22, 2005 and will end on December 30, 2005. Public Workshops will be held on December 12, 2005 from 6-9 p.m. at Sierra Vista High School, 8100 W. Robindale Road, Las Vegas, NV and on December 13, 2005 from 6-9 p.m. at Centennial High School, 10200 Centennial Parkway, Las Vegas, NV. The public will be afforded the opportunity to present oral testimony and/or written testimony pertinent to the subject of the workshops. Forms for providing written comments will be available and a court reporter will be available to record oral comments at the Public Workshops.

All written comments are to be submitted to Ms. Sara Hassert, Landrum & Brown, Inc., 8755 W. Higgins Rd., Ste. 850, Chicago, IL 60631, fax: 773-638-2901, e-mail: shassert@landrum-brown.com and the comments must be postmarked and email/fax must be sent by no later than midnight, December 30, 2005.

The DSEA may be reviewed for comment during regular business hours until December 30, 2005 at the following locations:

1. Nevada State Library and Archives, 100 Stewart St., Las Vegas, NV 89710.

2. Las Vegas Branch Library, 509 S. 9th St., Las Vegas, NV 89101-7010.

3. Las Vegas Library, 833 Las Vegas Blvd. N, Las Vegas, NV 89101-2004.

4. Meadows Library, 300 W. Boston Ave, Las Vegas, NV 89102.

5. Rainbow Library, 3150 N. Buffalo Dr., Las Vegas, NV 89128-2823.

6. Sahara West Library, 9600 W. Sahara Ave., Las Vegas, NV 89117-5959.

7. Spring Valley Library, 4280 S. Jones Blvd., Las Vegas, NV 89103-3325.

8. Summerlin Library, 1771 Inner Circle, Las Vegas, NV 89134-6119.

9. Sunrise Library, 5400 Harris Ave., Las Vegas, NV 89110-2543.

10. West Charleston Library, 6301 W. Charleston Blvd., Las Vegas, NV 89146-1124.

11. West Las Vegas Library, 951 W. Lake Mead Blvd., Las Vegas, NV 89106-2315.

12. Whitney Library, 5175 E. Tropicana Ave., Las Vegas, NV 89122-6742.

An electronic copy of the DSEA is also available on the Internet and can be accessed at http://www.awp.faa.gov/atenviro (click on Current Environmental Studies to select and view the document).

FOR FURTHER INFORMATION CONTACT: Ms. Kathryn Higgins, Environmental Specialist, Western Terminal Service Area Office, FAA Western Terminal Operations, 15000 Aviation Blvd., Lawndale, CA 90261, Ph. 310-725-6597, e-mail: kathryn.higgins@faa.gov.

SUPPLEMENTARY INFORMATION: The FAA encourages all interested parties to provide comments concerning the scope and content of the Draft SEA. Comments should be as specific as possible and address the analysis of potential environmental impacts and the adequacy of the proposed action or merits of alternatives. Reviewers should organize their participation so that it is meaningful and makes the agencies aware of the viewer's interests and concerns using quotations and other specific references to the text of the Draft SEA. Matters that could have been raised with specificity during the Draft SEA comment period may not be considered if they are raised later in the decision making process. This commenting procedure is intended to ensure that substantive comments and concerns are made available to the FAA in a timely manner so that the FAA has an opportunity to address them.

Issued in Lawndale, California, on November 22, 2005.
Anthony DiBernardo,
Manager, Program Operations, FAA Western Terminal Operations.

[FR Doc. 05-23636 Filed 12-2-05; 8:45 am]

BILLING CODE 4910-13-M